DEPARTMENT OF THE INTERIOR

Bureau of Reclamation

Lake Casitas Resource Management Plan, Ventura County, CA

AGENCY: Bureau of Reclamation, Interior.

ACTION: Notice of availability of the Final Environmental Impact Statement (EIS).

SUMMARY: Pursuant to the National Environmental Policy Act, the Bureau of Reclamation (Reclamation) has made available the Final EIS for the Lake Casitas Resource Management Plan (RMP). The RMP involves alternatives for future use of the project area for recreation and resource protection and management.

A Notice of Availability of the Draft EIS was published in the Federal Register on July 28, 2008 (73 FR 43785). The written comment period on the Draft EIS ended on October 31, 2008. The Final EIS contains responses to all comments received and reflects comments and any additional information received during the review period.

DATES: Reclamation will not make a decision on the proposed action until at least 30 days after release of the Final EIS. After the 30-day waiting period, Reclamation will complete a Record of Decision (ROD). The ROD will state the action that will be implemented and will discuss all factors leading to the decision.

ADDRESSES: Send requests for a compact disc or a bound copy of the Final EIS to Mr. Jack Collins, Bureau of Reclamation, 1243 N Street, Fresno, CA 93721.

Copies of the Final RMP/EIS are available at: http://www.usbr.gov/mp/nepa/nepa_projdetails.cfm?Project_ID=792. See the SUPPLEMENTARY INFORMATION section for locations where copies of the Final EIS are available.

FOR FURTHER INFORMATION CONTACT: Mr. Jack Collins, Bureau of Reclamation, Monday through Friday, 7 a.m. to 1 p.m., at (559) 349-4544 (TDD (559) 487-5933) or jwcollins@usbr.gov.

SUPPLEMENTARY INFORMATION: Lake Casitas is an existing reservoir formed by Casitas Dam and located in Ventura County, California. The dam, which stores water for irrigation, municipal and industrial use within the Casitas Municipal Water District (CMWD), was completed in November 1958. Lake Casitas has a storage capacity of 254,000 acre-feet and delivers between 15,000 and 23,000 acre-feet each year. Reclamation, in cooperation with the CMWD, developed the Lake Casitas RMP to establish management objectives, guidelines, and actions for the Lake Casitas Recreation Area (Park) and the 3,500 acres of Open Space Lands north of the Park, which together comprise the Plan Area. The RMP will have a planning horizon of 25 years.

The new RMP would: (1) Ensure safe storage and timely delivery of high-quality water to users while enhancing natural resources and recreational opportunities; (2) protect natural resources while educating the public about the value of good stewardship; (3) provide recreational opportunities to meet the demands of a growing, diverse population; (4) ensure recreational diversity and the quality of the experience; and (5) provide the updated management considerations for establishing a new management agreement with the managing partner(s).

The Final EIS is a program-level analysis of the potential environmental impacts associated with adoption of the RMP. The Final EIS outlines the formulation and evaluation of alternatives designed to address these issues by representing the varied interests present at the Plan Area and identifies Alternative 2 (Enhancement) as the preferred Alternative. The RMP is intended to be predominantly self-mitigating through implementation of RMP management actions and strategies, and the EIS also includes measures intended to reduce the adverse effects of the RMP.

Copies of the Final EIS are available at the following locations:

• Bureau of Reclamation, Mid-Pacific Region, Regional Library, 2800 Cottage Way, Sacramento, CA 95825.

• Bureau of Reclamation, South-Central California Area Office, 1243 N Street, Fresno, CA 93721.

• Ojai Ranger District Station, 1190 East Ojai Avenue, Ojai, CA 93023.

• E.P. Foster Public Library, 651 Main Street, Ventura, CA 93001.

• Bureau of Reclamation, Denver Office Library, Building 67, Room 167, Denver Federal Center, 6th and Kipling, Denver, CO 80225.

• Natural Resources Library, U.S. Department of the Interior, 1849 C Street, NW., Main Interior Building, Washington, DC 20240-0001.

Before including your name, address, phone number, e-mail address, or other personal identifying information in any correspondence, you should be aware that your entire correspondence—including your personal identifying information—may be made publicly available at any time. While you can ask us in your correspondence to withhold your personal identifying information from public review, we cannot guarantee that we will be able to do so.

Dated: January 27, 2010.
Mike Chotkowski,
Acting Regional Director, Mid-Pacific Region.

[FR Doc. 2010-8725 Filed 4-15-10; 8:45 am]

BILLING CODE 4310-MN-P